DEPARTMENT OF TRANSPORTATION

Pipeline and Hazardous Materials Safety Administration

Office of Hazardous Materials Safety; Notice of Applications for Modification of Special Permit

AGENCY: Pipeline and Hazardous Materials Safety Administration (PHMSA), DOT.

ACTION: List of applications for modification of special permit.

SUMMARY: In accordance with the procedures governing the application for, and the processing of, special permits from the Department of Transportation's Hazardous Material Regulations (49 CFR part 107, subpart B), notice is hereby given that the Office of Hazardous Materials Safety has received the application described herein. This notice is abbreviated to expedite docketing and public notice. Because the sections affected, modes of transportation, and the nature of application have been shown in earlier Federal Register publications, they are not repeated here. Request of modifications of special permits (e.g. to provide for additional hazardous materials, packaging design changes, additional mode of transportation, etc.) are described in footnotes to the application number. Application numbers with the suffix “M” denote a modification request. These applications have been separated from the new applications for special permits to facilitate processing.

DATES: Comments must be received on or before December 6, 2007.

ADDRESSES: Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the application are available for inspection in the Records Center, East Building, PHH-30, 1200 New Jersey Avenue, Southeast, Washington, DC or at http://dms.dot.gov.

This notice of receipt of applications for modification of special permit is published in accordance with part 107 of the Federal hazardous materials transportation law (49 U.S.C. 5117(b); 49 CFR 1.53(b)).

Issued in Washington, DC, on November 14, 2007.
Delmer F. Billings,
Director, Office of Hazardous Materials, Special Permits and Approvals.

Modification Special Permits
Application No. | Docket No. | Applicant | Regulation(s) affected | Nature of special permit thereof
10788-M |  | P.S.I. Plus, Inc., East Hampton, CT | 49 CFR 173.302(a)(1); 175.3; 178.65-2; 178.65-5(a)(4) | To modify the special permit to authorize the manufacture, marking, sale, and use of non-DOT Specification cylinders made from low carbon steel.
14190-M | PHMSA-21262 | Cordis Corporation, Miami Lakes, FL | 49 CFR 172.200; 172.300, 172.400 | To modify the special permit to authorize the transportation in commerce of certain Division 4.1 hazardous materials.
14516-M | PHMSA-28468 | FedEx Express, Baton Rouge, LA | 49 CFR 175.75(d), 172.203(a), 172.301(c) | To modify the special permit to waive the requirement to carry a copy of the permit on every aircraft.

[FR Doc. 07-5750 Filed 11-20-07; 8:45 am]

BILLING CODE 4909-60-M